DEPARTMENT OF HEALTH AND HUMAN SERVICES

Food and Drug Administration

[Docket No. FDA-2000-D-0784]

International Cooperation on Harmonisation of Technical Requirements for Registration of Veterinary Medicinal Products; Studies To Evaluate the Safety of Residues of Veterinary Drugs in Human Food: Reproduction Testing (Revision 1); Draft Guidance for Industry; Correction

AGENCY: Food and Drug Administration, HHS.

ACTION: Notice; correction.

SUMMARY: The Food and Drug Administration (FDA or Agency) is correcting a notice that appeared in the Federal Register on May 23, 2024. The document announced the availability of a draft revised guidance for industry (GFI) #115 (VICH GL22) entitled “Studies to Evaluate the Safety of Residues of Veterinary Drugs in Human Food: Reproduction Testing (Revision 1).” The document erroneously included incorrect contact information. This document corrects that error.

FOR FURTHER INFORMATION CONTACT: Li You, Center for Veterinary Medicine (HFV-153), Food and Drug Administration, 7500 Standish Place, Rockville, MD 20855, 240-402-0828, Li.You@fda.hhs.gov.

SUPPLEMENTARY INFORMATION:

Correction

In the Federal Register of May 23, 2024 (89 FR 45663), in FR Doc. 2024-11313, on page 45664, in the first column, correct the FOR FURTHER INFORMATION CONTACT section to read “Li You, Center for Veterinary Medicine (HFV-153), Food and Drug Administration, 7500 Standish Place, Rockville, MD 20855, 240-402-0828, Li.You@fda.hhs.gov.”

Dated: June 10, 2024.
Lauren K. Roth,
Associate Commissioner for Policy.

[FR Doc. 2024-13224 Filed 6-14-24; 8:45 am]

BILLING CODE 4164-01-P